DEPARTMENT OF ENERGY

Federal Energy Regulatory Commission

[CP06-462-000]

Honeoye Storage Corporation; Notice of Request Under Blanket Authorization

September 28, 2006.

Take notice that on September 20, 2006, Honeoye Storage Corporation (Honeoye), 4511 Egypt Road, Canandaigua, New York 14424, filed in Docket No. CP06-462-000, a request pursuant to Sections 157.205 and 157.214 of the Commission's Regulations under the Natural Gas Act (18 CFR 157.205 and 157.216) for authorization to increase its cushion gas capacity in its storage facility in Ontario County, New York, under Honeoye's blanket certificate issued in Docket No. CP00-95-000 pursuant to section 7(c) of the Natural Gas Act, all as more fully set forth in the application which is on file with the Commission and open to public inspection. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

Honeoye seeks the authority to increase it cushion gas capacity by 469,206 MMcf. All other authorized conditions will remain the same including the maximum reservoir pressure and maximum working gas capacity. Honeoye does not propose to construct any new facilities. Moreover, Honeoye does not require any activities that involve ground disturbance or changes to operational air or noise requirements.

Any questions regarding this application should be directed to David A. T. Donohue, Honeoye Storage Corporation, 535 Boylston Street, 12th Floor, Boston, Massachusetts 02116, or call (617) 536-0202.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (http://www.ferc.gov) under the “e-Filing” link.

Magalie R. Salas,
Secretary.

[FR Doc. E6-16417 Filed 10-4-06; 8:45 am]

BILLING CODE 6717-01-P